DEPARTMENT OF TRANSPORTATION

Federal Transit Administration

Environmental Impact Statement on Transportation Improvements Within the North Corridor in Metropolitan Columbus, Ohio

AGENCY: Federal Transit Administration (FTA), DOT.

ACTION: Notice of Intent to prepare an Environmental Impact Statement.

SUMMARY: The Federal Transit Administration (FTA) and the Central Ohio Transit Authority (COTA) are issuing this notice to advise interested agencies and the public that, in accordance with the National Environmental Policy Act (NEPA) of 1969, as amended, an Environmental Impact Statement (EIS) is being prepared for the proposed transportation improvements in the North Corridor and adjacent areas in the City of Columbus and Franklin, and Delaware Counties, within the metropolitan area of Columbus, Ohio.

The EIS will evaluate the following alternatives: a no-build alternative; a transportation system management (TSM) alternative; build alternatives consisting of light rail transit in one of several alignment options combined with increased bus service in the North Corridor, and any additional reasonable alternatives that emerge from the scoping process. Scoping will be accomplished through meetings and correspondence with interested persons, organizations, the general public, and federal, state and local agencies.

The EIS will address the need to improve mobility and reverse-commute access in the corridor, reduce adverse environmental impacts in the region, provide long-term, cost-effective transportation infrastructure and services, and enhance regional economic development.

DATES: Comment Due Date: Written comments on the alternatives and impacts to be considered should be sent to Mr. Michael L. Bradley, Director of Rail Development, Central Ohio Transit Authority, 1650 Lake Shore Drive, Suite 300, Columbus, Ohio 43204 by August 15, 2003.

Scoping Meetings: Three public scoping meetings and one interagency scoping meeting will be held. The public scoping meetings will be held on July 22 and 23, 2003. The interagency scoping meeting will be held on July 24, 2003. See ADDRESSES below for the specific time and place of each meeting.

ADDRESSES: Written comments on the scope of the analysis and the impacts to be considered should be sent by August 15, 2003 to: Mr. Michael L. Bradley, Director of Rail Development, Central Ohio Transit Authority, 1650 Lake Shore Drive, Suite 300, Columbus, OH 43204.

Public Scoping meetings will be held at the following locations:

Tuesday, July 22, 2003 at Rhodes Office Tower, Lobby Hearing Room, 30 East Broad Street, Columbus, Ohio from 8 to 10 a.m. COTA will give a presentation on the proposed action at 8:30 a.m.

Tuesday, July 22, 2003 at St. Stephen's Community House, 1500 17th Avenue, Columbus, Ohio from 6 to 8 p.m. COTA will give a presentation on the proposed action at 6:30 p.m.

Wednesday, July 23, 2003 at North Broadway United Methodist Church, 48 East North Broadway, Columbus, Ohio from 6 to 8 pm. COTA will give a presentation on the proposed action at 6:30 pm.

The appropriate federal, state, and local agency offices will be notified individually about the time and location of the interagency scoping meeting.

The locations of the scoping meetings are accessible to persons with disabilities. Any individual with a disability who requires special assistance to participate in the scoping meetings should contact Mr. Michael L. Bradley, Director of Rail Development, Central Ohio Transit Authority, 1650 Lake Shore Drive, Suite 300, Columbus, Ohio 43204 or should call the project information line at (866) “RAILCOTA or COTA TDD at (614) 228-1832 available weekdays 8:30 a.m.—5:30 p.m.), or should send an e-mail to info@cotafasttrax.com by July 14, 2003 in order for COTA to make necessary arrangements.

FOR FURTHER INFORMATION CONTACT: Ms. Vanessa Adams, Senior Community Planner, Federal Transit Administration, 200 West Adams Street, Suite 320, Chicago, Illinois 60606-5232; phone: (312) 353-2789.

SUPPLEMENTARY INFORMATION: The Federal Transit Administration (FTA), the federal lead agency, in cooperation with the Central Ohio Transit Authority (COTA), the local lead agency, is preparing an Environmental Impact Statement (EIS) for proposed transportation improvements in the North Corridor and adjacent areas. The lead agencies will also seek the cooperation of the Federal Railroad Administration (FRA) and the Mid-Ohio Regional Planning Commission (MORPC), the metropolitan planning organization (MPO) responsible for transportation planning in metropolitan Columbus.

The transportation improvements have been defined through a Major Investment Study (MIS) conducted in 1995 and updated in 2001, which included extensive public outreach and interagency involvement. The MIS is available for public review at the COTA office by contacting Mr. Michael Bradley as described under ADDRESSES above. In accordance with the regulations implementing the National Environmental Policy Act (NEPA) of 1969, as amended, the scoping process will be used to determine the alternatives to be considered in detail in the EIS and the impacts of those alternatives to be evaluated. The results of the MIS will not be re-visited unless significant costs or impacts not fully evaluated in the MIS are identified during scoping. FTA and COTA also expect the scoping process to identify alternative design concepts for evaluation. Alternative alignments and designs that meet the project purpose and need as reflected in the regional transportation plan will be addressed in the EIS.

I. Scoping

FTA and COTA invite interested individuals, organizations, and federal, state, and local agencies to participate in defining the alternatives to be evaluated and identifying any significant social, economic and environmental issues related to the alternatives. Comments on the appropriateness of the alternatives and impact-related issues are encouraged. Specific suggestions on additional alternatives to be examined and issues to be addressed are welcomed and will be considered in establishing the final study scope. Comments may be made orally at the meetings or in writing no later than August 15, 2003.

COTA staff will be present at the scoping meetings to describe corridor alternatives, answer questions, and receive comments. Additional opportunities for public participation will be provided throughout the EIS preparation to review findings and results and to solicit comments. Interested persons will be notified of project progress through a continuing community information program and materials distributed to the project mailing list that will include all scoping participants.

II. Description of Study Area and Project Need

The study area for the North Corridor Light Rail Transit project (NCLRT) is located within the metropolitan area of Columbus, Ohio in the City of Columbus and Franklin and Delaware Counties. The transit alternative extends approximately 13 miles between the Franklin/Delaware County line in the Polaris area and downtown Columbus and centered on a path generally parallel to Interstate-71. The northern terminus of the transit study area is the intersection of Flint Road and Lazelle Road at the Franklin and Delaware county line and the southern terminus is the intersection of High Street and Fulton Street in downtown Columbus. The study area is generally bounded on the west by the Olentangy River and State Route 315 and on the east by State Route 3 (Cleveland Avenue/Westerville Road). Because one of the transit alternatives includes the shared use of the CSX Transportation (CSXT) and Norfolk Southern (NS) railroad right-of-way, the study will also evaluate impacts on the regional freight railroad network in Central Ohio.

Most of the corridor is within the urban setting of the City of Columbus, but it also includes the suburban communities of Minerva Park, Riverlea and portions of the cities of Worthington and Westerville. Several major activity centers are located within the corridor and at the northern and southern termini, including cultural sites, entertainment districts, hospitals, sport stadiums, universities, fairgrounds, a convention center and a regional mall. The remainder of the corridor is primarily residential. Polaris, Crosswoods, Worthington, Easton, and the Short North are mixed use areas with an emphasis on retail and restaurants. The Ohio State House, the Arena District, Theater District, City Center, Science Center and redeveloping Brewery District are major traffic generators in the downtown area. The corridor has two large hospitals, Grant Hospital and the Ohio State University Hospital, serving more than 50,000 patients each year. Three colleges and universities (Ohio State University, Columbus State Community College, and Franklin University) are within the corridor. Four major sports stadiums are also in the corridor, including Ohio Stadium (where Ohio State University plays football), Schottenstein Center for basketball, Columbus Crew Soccer Stadium and Nationwide Arena. Other attractions include the Ohio State Fairgrounds, the Columbus Convention Center, and the Veterans Memorial Hall.

Approximately 233,000 people live in the study area and the population is expected to increase to more than 248,000 by year 2025. The North Corridor has approximately 235,000 jobs, which is one-third of the region's total employment. The number of jobs is expected to increase in the study area to 278,000 by 2025. Due to the population and employment within the North Corridor, COTA's busiest bus route is within the study area, serving approximately 13,000 riders per day in the Ohio State University area. The North Corridor is considered the most congested area in the Columbus metropolitan area.

COTA and MORPC have been working together to address the transportation problems and needs in the Columbus metropolitan area. In 1993, COTA and MORPC completed an update of the long range plan for public transportation in the region, which recommended a series of transit system improvements, including the development of eight fixed guideway transit lines using existing freight rail corridors. As a result of the Long Range System Plan Analysis, the 13-mile North Corridor, extending between the Polaris area and Downtown Columbus generally along Interstate-71, was identified as the priority corridor for fixed guideway transit improvements.

COTA and MORPC conducted a Major Investment Study (MIS) for the North Corridor between 1993 and 1995, with the recommendation to expand bus service as the locally preferred alternative. Following the completion of Vision 2020, a long-range transit plan for central Ohio, in 2001 COTA and MORPC updated the 1995 North Corridor MIS. The MIS update concluded with the selection of a locally preferred alternative comprised of light rail transit and substantial improvements to bus service in the corridor between the Polaris area and Downtown Columbus.

III. Alternatives

The scoping meetings, other community meetings and written comments will be a major source of alternatives for consideration in the EIS. Transportation alternatives proposed for consideration in the North Corridor include:

1.A No-Action Alternative, which is the continuation of existing bus service policies in the study area. Under the No-Action Alternative, increases in service to the year 2025 would track with increases in demand due to population or employment growth in the area, in accordance with current service policies.

2. A Transportation System Management (TSM) Alternative, which focuses on operational and low to medium cost capital improvements to bus transit routes and service in the project area, and attempts to serve the project purpose and need as much as possible without the construction of a new fixed guideway.

3. Build Alternatives comprised of Light Rail Transit (LRT) combined with enhanced bus service. The LRT route extends about 13 miles from the Polaris area to the Columbus Central Business District. From Polaris to about 17th Street, the light rail line is proposed to be located in railroad right-of-way (ROW) parallel to the CSXT Columbus line and NS Sandusky-Columbus rail lines. Street running operations are proposed for the light rail line from the vicinity of 17th Street to Fulton Street in the Downtown. The proposed street running alignments south of 17th Street would be along Summit and/or Fourth Streets with a transition to High Street at Interstate 670. An alternative alignment with street running operations along High Street between approximately 17th Street and Interstate 670 that would more directly serve the Ohio State University campus may also be considered.

Two options are under consideration for the portion of the project that is located in the rail ROW between Polaris and about 17th Street: Under one of the options for the railroad right-of-way, COTA may construct a new freight railroad intermodal facility in Delaware or Union County in the central Ohio area.

Fourteen potential transit stations would be located to serve potential trip generators and in areas where economic development activities are planned or underway. The locations of stations and resulting impacts will be an important area of consideration during the study.

Based on public and agency input received during scoping, variations of the above alternatives and other transportation-related improvement options, both transit and non-transit, may be considered for the North Corridor.

IV. Probable Effects/Potential Impacts for Analysis

The FTA and COTA will evaluate all social, economic and environmental impacts of the alternatives analyzed in the EIS. Impacts may include: Land use, zoning, and economic development; secondary development; cumulative land use impacts; land acquisition, displacements, and relocation of existing uses; historic and archaeological resources; parklands and recreation areas; neighborhoods and communities; environmental justice; air quality; noise and vibration; hazardous materials; ecosystems; water resources; construction impacts; safety and security; utilities; finance; and transportation. Other potential impact issues may be added as a result of scoping and interagency coordination efforts. The proposed impact assessment and evaluation will take into account both positive and negative effects, direct and indirect impacts, short-term (construction) and long-term operational impacts, and cumulative effects. Measures to avoid or mitigate any significant adverse impacts will be developed.

V. FTA Procedures

In accordance with FTA policy, all federal laws, regulations and executive orders affecting project development, including but not limited to the regulations of the Council on Environmental Quality and FTA implementing NEPA (40 CFR parts 1500-1508 and 23 CFR part 771), the Clean Air Act, Section 404 of the Clean Water Act, Executive Orders 11988, 11990 and 12898 regarding floodplains, wetlands, and environmental justice, respectively, the National Historic Preservation Act, the Endangered Species Act, and section 4(f) of the Department of Transportation Act, will be addressed to the maximum extent practicable during the NEPA process.

The Draft Environmental Impact Statement (DEIS) will be circulated to solicit public and agency comments on the proposed action. Public hearings will be held on the DEIS. Based on the comments received on the DEIS, COTA will take appropriate project actions and prepare the Final EIS, which will identify the preferred alternative. Opportunity for additional public comment will be provided throughout all phases of project development.

Issued on: June 23, 2003.
Joel P. Ettinger,
Regional Administrator.

[FR Doc. 03-16555 Filed 6-30-03; 8:45 am]

BILLING CODE 4910-57-P